DEPARTMENT OF DEFENSE

Department of the Army, Corps of Engineers

Intent To Prepare an Environmental Impact Statement for the Lake Okeechobee Watershed Project, Okeechobee, Highlands, Charlotte, Glades, Martin and St. Lucie Counties, Florida

AGENCY: Department of the Army, U.S. Army Corps of Engineers, DOD.

ACTION: Notice of intent.

SUMMARY: The Jacksonville District, U.S. Army Corps of Engineers (Corps) is beginning preparation of a National Environmental Policy Act assessment for the Lake Okeechobee Watershed Project (LOWP). The Everglades ecosystem, including Lake Okeechobee, encompasses a system of diverse wetland landscapes that are hydrologically and ecologically connected across more than 200 miles from north to south and across 18,000 square miles of southern Florida. In 2000, the U.S. Congress authorized the Federal government, in partnership with the State of Florida, to embark upon a multi-decade, multi-billion dollar Comprehensive Everglades Restoration Plan (CERP) to further protect and restore the remaining Everglades ecosystem while providing for other water-related needs of the region. CERP involves modification of the existing network of drainage canals and levees that make up the Central and Southern Florida Flood Control Project. One of the next steps for implementation of CERP is to identify opportunities to restore the quantity, quality, timing and distribution of flows into Lake Okeechobee. The LOW Project preliminary project area, where placement of features will be considered, covers a large portion of the Lake Okeechobee Watershed north of the lake. Water inflows into Lake Okeechobee greatly exceed outflow capacity, thus many times there is too much water within Lake Okeechobee that needs to be released in order to ensure integrity of the Herbert Hoover Dike. At other times, there may be too little water within Lake Okeechobee. Lake levels that are too high or too low, and inappropriate recession and ascension rates, can adversely affect native vegetation, and fish and wildlife species that depend upon the lake for foraging and reproduction. The volume and frequency of undesirable freshwater releases to the east and west lowers salinity in the estuaries, severely impacting oysters, sea grasses, and fish. Additionally, high nutrient levels adversely affect in-lake water quality, estuary habitat, and habitat throughout the Greater Everglades. The objectives of the LOW Project are to improve the quality, quantity, timing and distribution of water entering Lake Okeechobee, provide for better management of lake water levels, reduce damaging releases to the Caloosahatchee and St. Lucie estuaries downstream of the lake and improve system-wide operational flexibility.

ADDRESSES: U.S. Army Corps of Engineers, Planning and Policy Division, Environmental Branch, P.O. Box 4970, Jacksonville, FL 32232-0019.

FOR FURTHER INFORMATION CONTACT: Gretchen Ehlinger at 904-232-1682 or email at gretchen.s.ehlinger@usace.army.mil. Additional information is also available at http://bit.ly/LakeOWatershed.

SUPPLEMENTARY INFORMATION:

a. Since 2000, much progress has been made on CERP projects. Construction has begun on the first generation of CERP project modifications already authorized by Congress. These include the Picayune Strand Restoration, the Indian River Lagoon South and Site 1 Impoundment Projects. Congressional authorization has been received for the second generation of CERP projects, including Biscayne Bay Coastal Wetlands-Phase 1, the Broward County Water Preserve Areas, the Caloosahatchee River (C-43) West Basin Storage Reservoir, and the C-111 Spreader Canal Western Project which are already under construction or are operational, and the Broward County Water Preserve Areas which is currently being designed. The Central Everglades Planning Project is currently awaiting congressional authorization. All of these CERP projects contribute significant ecological benefits to the system and the specific regional habitats in which they are located.

b. The objectives of the LOWP are to improve the quality, quantity, timing and distribution of water entering Lake Okeechobee, provide for better management of lake water levels, reduce damaging releases to the Caloosahatchee and St. Lucie estuaries downstream of the lake and improve system-wide operational flexibility.

c. A scoping letter will be used to invite comments from Federal, State, and local agencies, affected Indian Tribes, and other interested private organizations and individuals.

d. A scoping meeting will be held July 26th, 2016 from 6:00 to 8:00 p.m. at the Okeechobee Auditorium, 3800 NW., 16th Boulevard, Suite A, Okeechobee, FL 34972.

e. All alternative plans will be reviewed under provisions of appropriate laws and regulations, including the Endangered Species Act, Fish and Wildlife Coordination Act, Clean Water Act, and Farmland Protection Policy Act.

f. The Draft Environmental Impact Assessment is expected to be available for public review in late 2017.

Dated: July 7, 2016.
Eric P. Summa,
Chief, Planning and Policy Division.

[FR Doc. 2016-16920 Filed 7-15-16; 8:45 am]

BILLING CODE 3720-58-P